DEPARTMENT OF DEFENSE

Department of the Army

[Docket ID: USA-2008-0063]

Privacy Act of 1974; System of Records

AGENCY: Department of the Army, DoD.

ACTION: Notice to Alter a System of Records.

SUMMARY: The Department of the Army is proposing to alter a system of records in its existing inventory of records systems subject to the Privacy Act of 1974 (5 U.S.C. 552a), as amended.

DATES: The proposed action will be effective on October 31, 2008 unless comments are received that would result in a contrary determination.

ADDRESSES: Department of the Army, Privacy Office, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The proposed system report, as required by 5 U.S.C. 552a(r) of the Privacy Act of 1974, as amended, was submitted on September 4, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: September 23, 2008.
Patricia L. Toppings,
OSD Federal Register Liaison Officer, Department of Defense.

A0680-31 DSC G-1

SYSTEM NAME:

Economic and Manpower Analysis (OEMA) Data Base.

SYSTEM LOCATION:

United States Military Academy, 607 Cullum Road, Washington Hall (BLDG 745), West Point, NY 10996-1798.

CATEGORIES OF INDIVIDUALS COVERED BY THE SYSTEM:

Individuals seeking information about the Army through advertising or marketing campaigns including but not limited to the Internet, direct mail, and marketing events from fiscal year 1990 and after;

Individuals entering into enlistment contracts with the Army (Active Component, Reserve Component, and National Guard) from fiscal year 1990 and after;

Individuals applying to, enrolled in, and commissioned from the United States Military Academy (USMA) and the Reserve Officer Training Corps (ROTC) from fiscal years 1980 and after;

Individuals serving in the Army Active Component as a commissioned officer, warrant officer, or enlisted soldier from fiscal year 1970 and after;

Individuals serving in the Army Reserve Component as a commissioned officer, warrant officer, or enlisted soldier from fiscal year 1990 and after;

Individuals serving in the Army National Guard as a commissioned officer, warrant officer, or enlisted soldier from fiscal year 1990 and after;

Individuals employed by the Department of the Army as DA Civilian Employees, Non-Appropriated Funds Employees, or Foreign National Employees from fiscal year 1991 and after;

Individuals retired from the Army Active Component, Reserve Component, or National Guard from fiscal year 1990 and after;

Individuals separated from the Active Component from fiscal year 1968 and after;

Individuals retired from service as a DA Civilian from fiscal year 1997 and after;

Dependents of member of Active Component, Reserve Component, or National Guard from fiscal year 1988 and after.

CATEGORIES OF RECORDS IN THE SYSTEM:

Name, Service Number, Selective Service Number, Social Security Number (SSN), citizenship data, compensation data, demographic information such as home town, age, sex, race, date of birth, number of family members of sponsor, and educational level; reasons given for leaving military service; training and job specialty information, work schedule (full time, part time, intermittent), annual salary rate, occupational series, position occupied, agency identifier, geographic location of duty station, metropolitan statistical area, and personnel office identifier; military personnel information such as rank, assignment/deployment, length of service, military occupation, aptitude and performance scores, and training; participation in various in-service education and training programs; home and work addresses; Medicare eligibility and enrollment data, dental care eligibility codes, disability payment records, and education benefit records.

AUTHORITY FOR MAINTENANCE OF THE SYSTEM:

5 U.S.C. 301, Departmental Regulations; 10 U.S.C. 3013, Secretary of the Army; 10 U.S.C. 2358, Research and Development Projects; and E.O. 9397 (SSN).

PURPOSE(S):

To facilitate manpower and personnel studies for the DoD and DA senior leadership.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

POLICIES AND PRACTICES FOR STORING, RETRIEVING, ACCESSING, RETAINING, AND DISPOSING OF RECORDS IN THE SYSTEM:

STORAGE:

Electronic storage media.

RETRIEVABILITY:

Name, Social Security Number (SSN), and other information maintained in the system specific to an individual.

SAFEGUARDS:

All records are maintained in a controlled area accessible only to authorized personnel. Entry to these areas is restricted to those personnel with a valid requirement and authorization to enter. Physical entry is restricted by the use of locks, guards, and administrative procedures. Access to personal information is restricted to those who require the records in the performance of their official duties. Access to personal information is further restricted by the use of user identification codes and passwords, which are changed periodically.

RETENTION AND DISPOSAL:

Disposition pending (until the National Archives and Records Administration has approved retention and disposition of these records, treat as permanent).

SYSTEM MANAGER(S) AND ADDRESS:

Director, Office of Economic and Manpower Analysis (OEMA), Washington Hall (BLDG 745), United States Military Academy, West Point, NY 10996-1798.

NOTIFICATION PROCEDURE:

Individuals seeking to determine whether information about themselves is contained in this system should address written inquiries to the Director, Office of Economic and Manpower Analysis (OEMA), Washington Hall (BLDG 745), United States Military Academy, West Point, NY 10996-1798.

Requests should contain individual's full name, Social Security Number (SSN), current address and telephone number, and other personal identifying data that would assist in locating the records. The request must be signed.

RECORDS ACCESS PROCEDURE:

Individuals seeking access to information about themselves contained in this system should address written inquiries to the Director, Office of Economic and Manpower Analysis (OEMA), Washington Hall (BLDG 745), United States Military Academy, West Point, NY 10996-1798.

Requests should contain individual's full name, Social Security Number (SSN), current address and telephone number, and other personal identifying data that would assist in locating the records. The request must be signed.

CONTESTING RECORDS PROCEDURES:

The Army's rules for accessing records, and for contesting contents and appealing initial agency determinations are contained in Army Regulation 340-21; 32 CFR part 505; or may be obtained from the system manager.

RECORD SOURCE CATEGORIES:

From official DoD systems such as: Total Army Personnel Database, Active Officers (TAPDB-AO); Total Army Personnel Database, Active Enlisted (TAPDB-AE); Total Army Personnel Database, Reserve (TAPDB-R); Total Army Personnel Database; National Guard (TAPDB-G); and Defense Manpower Data Center (DMDC).

EXEMPTIONS CLAIMED FOR THE SYSTEM:

None.

[FR Doc. E8-23017 Filed 9-30-08; 8:45 am]

BILLING CODE 5001-06-P